NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before February 28, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means: Mail: NARA (NWML), 8601 Adelphi Road, College Park, MD 20740-6001.E-mail: records.mgt@nara.gov. FAX: 301-837-3698. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-03-10, 5 items, 4 temporary items). Records relating to research on the effects of potential chemical agents and/or antidotes on various species, including humans. Included are proposed research plans, studies, reports, and personal data on human volunteer subjects. Also included are electronic copies of documents created using electronic mail and word processing. Proposed for permanent retention are research studies on the effects of LSD on human subjects. This schedule also authorizes the agency to apply the proposed disposition instructions to any recordkeeping medium. Records relating to research studies that require a signed consent form from participants will be retained for 75 years.

2. Department of the Army, Agency-wide (N1-AU-05-1, 2 items, 2 temporary items). Family Advocacy Program records relating to preventive activities. Included are such records as family background information, screening forms, family service plans, progress notes, assessments, referrals, and evaluations. Also included are electronic copies of documents created using electronic mail and word processing. This schedule authorizes the agency to apply the proposed disposition instructions to any recordkeeping medium.

3. Department of Energy, Bonneville Power Administration (N1-305-04-1, 6 items, 6 temporary items). Records relating to engineering and technical support matters. Included are such records as work orders, project data, and records that relate to the design and construction of static volt-ampere reactive compensation systems. Electronic copies of records created using electronic mail and word processing are also included.

4. Department of Energy, Bonneville Power Administration (N1-305-04-2, 6 items, 6 temporary items). Records relating to personal safety matters, including injuries, fatalities, and safety measures. Included are such records as safety incident investigations and reports as well as audits, studies, tests, and inspection reports pertaining to safety conditions and hazards at agency facilities. Electronic copies of records created using electronic mail and word processing are also included.

5. Department of Transportation, Bureau of Transportation Statistics (N1-398-04-22, 3 items, 3 temporary items.) Office directors' correspondence relating to work accomplishments, personnel needs, and other routine activities. Also included are routine non-controlled Congressional correspondence, other incoming letters, and electronic copies of records created using electronic mail and word processing. This schedule authorizes the agency to apply the proposed disposition instructions to any recordkeeping medium.

6. Department of Transportation, Bureau of Transportation Statistics (N1-398-04-28, 3 items, 3 temporary items). Copies of Congressional correspondence referred to agency program offices for reply. Also included are electronic copies of records created using electronic mail and word processing. This schedule authorizes the agency to apply the proposed disposition instructions to any recordkeeping medium.

7. Department of Transportation, Bureau of Transportation Statistics (N1-398-04-36, 3 items, 3 temporary items). Records of periodic audits of air carriers, including reports, correspondence, and memorandums. Also included are electronic copies of records created using electronic mail and word processing. This schedule authorizes the agency to apply the proposed disposition instructions to any recordkeeping medium.

8. Environmental Protection Agency, Office of Solid Waste and Emergency Response (N1-412-04-8, 5 items, 2 temporary items). Software and inputs of the National Resource Conservation and Recovery Act Information System, an electronic system used to record and track information provided by the regulated community concerning the generation, shipment, treatment, and disposal of hazardous wastes. Proposed for permanent retention are the system data, system documentation, and biennial reports.

9. Executive Office of the President, Office of the United States Trade Representative (N1-364-00-2, 21 items, 17 temporary items). Electronic records and systems used throughout the agency, including such records as calendars and spreadsheets, a legislative referral tracking system, phone system listings, public reading room logs, the Section 301 Trade Act violations system, and a travel system. Also included are electronic copies created using word processing. Proposed for permanent retention are trade negotiation databases and a correspondence tracking system relating to other permanent records, along with related system documentation.

10. National Skill Standards Board, Agency-wide (N1-220-04-9, 3 items, 1 temporary item). Electronic copies of records created using electronic mail and word processing that relate to the Board's efforts regarding the development of a uniform system of voluntary workplace standards for American industries. Records proposed for permanent retention include recordkeeping copies of committee files, conference and presentation files, the Executive Deputy Director's subject files, hearings records, publications, web page records, organization and budget files, and video recordings of meetings, hearings, and press conferences.

11. U.S. Chemical Safety and Hazard Investigation Board, Office of General Counsel (N1-220-04-8, 19 items, 14 temporary items). Litigation files, records relating to investigations, rulemaking dockets, chronological files, procurement solicitation reviews, inter-agency agreements, annual Freedom of Information Act reports, and other records accumulated by the General Counsel's office. Also included are electronic copies of records created using electronic mail and word processing. Recordkeeping copies of such records as legal opinions, orders issued by the Board, and voting records of Sunshine Act meetings are proposed for permanent retention. The agency will notify NARA of potentially permanent investigation and litigation files, which will be appraised on a case-by-case basis.

Dated: January 5, 2005.
Michael J. Kurtz,
Assistant Archivist for Records Services—Washington, DC.

[FR Doc. 05-575 Filed 1-11-05; 8:45 am]

BILLING CODE 7515-01-P